DEPARTMENT OF JUSTICE

Antitrust Division

Notice Pursuant to the National Cooperative Research and Production Act of 1993—Cooperative Research Group on Automotive Consortium for Embedded Security™

Notice is hereby given that, on March 20, 2015, pursuant to Section 6(a) of the National Cooperative Research and Production Act of 1993, 15 U.S.C. 4301 et seq. (“the Act”), Southwest Research Institute—Cooperative Research Group on Automotive Consortium for Embedded Security™,(“ACES”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Delphi Automotive Systems, LLC, Kokomo, IN; Denso International America, Inc., Southfield, MI; Ford Motor Company, Dearborn, MI; GM Global Technology Operations LLC, Detroit, MI; Honda R&D Americas, Inc., Raymond, OH; and Robert Bosch LLC, Farmington Hills, MI. The general area of ACES's planned activity is to provide pre-competitive and non-competitive research in automotive embedded systems security to protect the safety, reliability, brand image, trade secrets, and to provide privacy of members' future products. The objectives of ACES are to perform high-risk/high-reward pre-competitive and non-competitive research and development; serve as an independent verification and validation entity; develop understanding of industry problems and associated risk; monitor and share threats and industry research; keep abreast of and provide input for emerging safety and security regulations and standards; and provide members with relevant solutions and actionable results.

Patricia A. Brink,
Director of Civil Enforcement, Antitrust Division.

[FR Doc. 2015-10028 Filed 4-29-15; 8:45 am]

BILLING CODE P